NATIONAL SCIENCE FOUNDATION

Proposal Review Panel in Earth Sciences; Notice of Meeting

In accordance with the Federal Advisory Committee Act (Pub. L. 92-463, as amended), the National Science Foundation announces the following meeting:

Name: Earth Sciences Proposal Review Panel (1569).

Date & Time: October 20-21, 2005, 8 a.m.-6 p.m.

Place: UNAVCO Inc., 6350 Nautilus Drive, Boulder, CO 80301.

Type of Meeting: Part-Open—(see Agenda below).

Contact Person: Mr. Russell Kelz, Program Director, Instrumentation & Facilities Program, Division of Earth Sciences, National Sciences Foundation, 4201 Wilson Boulevard, Arlington, VA 22230. Telephone: (703) 292-8558.

Purpose of Meeting: To carry out review of UNAVCO management and leadership as stipulated in cooperative agreement EAR-0321760.

Agenda

Closed: October 20 from 8:30-9:30 a.m.: organization meeting, introductions, review of charge to review panel, discussion of COI; and from 1-5 p.m.: panel discussion, write up of summary of findings and recommendations. October 21 from 8:30 a.m.-2 p.m.: complete panel summary and recommendations.

Open: October 20 from 9:30 a.m.-12 p.m.: Presentation by UNAVCO, Inc management and Q&A between panel and UNAVCO, Inc.; October 21 from 3-4 p.m.: Presentation of panel draft findings to NSF/EAR/IF Program.

Reason for Closing: During the closed sessions, the panel will be reviewing information of a proprietary or confidential nature, including technical information, financial data such as salaries, and personal information that could harm individuals if they are disclosed. If discussions were open to the public, these matters that are exempt under 5 U.S.C. 552b(c)(4) and (6) of the Government in the Sunshine Act would be improperly disclosed.

Dated: September 20, 2005.
Susanne Bolton,
Committee Management Officer.

[FR Doc. 05-19081 Filed 9-23-05; 8:45 am]

BILLING CODE 7555-01-M